SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before October 17, 2011.

ADDRESSES: Send all comments regarding whether these information collections are necessary for the proper performance of the function of the agency, whether the burden estimates are accurate, and if there are ways to minimize the estimated burden and enhance the quality of the collections, to Ingrid Ripley, Program Analyst, Office of Financial Assistance, Small Business Administration, 409 3rd Street, 8th Floor, Washington, DC 20416.

FOR FURTHER INFORMATION CONTACT: Ingrid Ripley, mailto: Program Analyst, Office of Financial Assistance 202-205-7538 ingrid.ripley@sba.gov Curtis B. Rich, Management Analyst, 202-205-7030 curtis.rich@sba.gov

SUPPLEMENTARY INFORMATION: PRIME is a grant program utilizing not for profit microenterprise development organizations (MDOs) to (1) Provide training and technical assistance to disadvantages and very-low income entrepreneurs (2) Provide training and facilitate capacity building to existing MDOs assisting disadvantaged and very-low income entrepreneurs, and (3) Provide research in the field of providing technical assistance to disadvantage and very-low income entrepreneurs. Information collected is used for oversight of the program and ensure appropriate use of federal funds.

Title: “PRIME (Program for Investment in Microentrepreneurs)”.

Description of Respondents: Small Disadvantage Businesses.

Form Number: N/A.

Annual Responses: 140.

Annual Burden: 280.

SUPPLEMENTARY INFORMATION: SBLCs and NFRL'S are non-depository lending institutions authorized by SBA primarily to make loans under section 7(a) of the Small Business Act. As sole regulator of these institutions, SBA requires them to submit audited financial statements annually as well as interim, quarterly financial statements and other reports to facilitate the Agency's oversight of these lenders.

Title: “Reports to SBA, Provisions 03 13 CFR 120.472”.

Description of Respondents: Small Business Lending Companies.

Form Number: N/A.

Annual Responses: 72.

Annual Burden: 8,352.

Curtis B. Rich,
Acting Chief, Administrative Information Branch.

[FR Doc. 2011-20795 Filed 8-15-11; 8:45 am]

BILLING CODE P